DEPARTMENT OF ENERGY

Federal Energy Regulatory Commission

Notice of Application for Transfer of License and Soliciting Comments, Motions To Intervene and Protests

July 31, 2000.

Take notice that the following hydroelectric application has been filed with the Commission and is available for public inspection:

a. Application Type: Transfer of License.

b. Project No: 6115-010.

c. Date Filed: June 5, 2000.

d. Applicant: Pyrites Associates.

e. Name of Project: Pyrites.

f. Location: The project is located on the Grass River in St. Lawrence County, New York. The project does not occupy federal or tribal lands.

g. Filed Pursuant to: Federal Power Act, 16 U.S.C. §§ 791(a)-825(r).

h. Applicant Contact: Michael B. Peisner, Esq., Curtis Thaxter Stevens Broder & Micoleau LLC, One Canal Plaza, P.O. Box 7320, Portland, Maine 04112.

i. FERC Contact: Any question on this notice should be addressed to Dave Snyder at (202) 219-2385.

j. Deadline for filing comments and or motions: September 1, 2000.

All documents (original and eight copies) should be filed with: David P. Boergers, Secretary, Federal Energy Regulatory Commission, 888 First Street, N.E., Washington DC 20426.

Please include the Project Number (6115-010) on any comments or motions filed.

k. Description of Transfer: Pyrites Associates is a general partnership organized under the laws of the state of New York, consisting of the general partners Hydro Development Group, Inc. (Hydro), and Hydra-Co Enterprises, Inc. (Hydra). The application states that the proposed transfer will result from CHI-Dexter, Inc., a Delaware corporation, purchasing the remaining interest of Hydra as a general partner in Pyrites Associates. Under the purchase transaction, Hydra will cease to be a general partner and CHI-Dexter will become a general partner in the partnership entity that will continue to operate under the name Pyrite Associates. The application states that the purchase transaction will arguably cause a technical dissolution of Pyrites Associates under Section 60 of New York's Partnership Law.

The applicant states that operation of the project will not change as a result of the proposed transfer and the current operator, Hydro, will continue as operator.

l. Locations of the Application: A copy of the application is available for inspection and reproduction at the Commission's Public Reference Room, located at 888 First Street, NE, Room 2A, Washington, D.C. 20426, or by calling (202) 208-1371. The application may be viewed on the web at www.ferc.fed.us/online/rims.htm. Call (202) 208-2222 for assistance. A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filing must bear in all capital letters the title “COMMENTS”, “RECOMMENDATIONS FOR TERMS AND CONDITIONS”, “PROTEST”, OR “MOTION TO INTERVENE”, as applicable and the Project Number of the particular application to which the filing refers. Any of the above-named documents must be filed by providing the original and the number of copies provided by the Commission's regulations to: The Secretary, Federal Energy Regulatory Commission, 888 First Street, N.E., Washington, D.C. 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-19746 Filed 8-3-00; 8:45 am]

BILLING CODE 6717-01-M